DEPARTMENT OF THE TREASURY

Departmental Offices Proposed Collections; Comment Requests

ACTION: Notice and request for comments.

SUMMARY: The Department of the Treasury, as part of its continuing effort to reduce paperwork burdens, invites the general public and other Federal agencies to comment on a proposed information collection, as required by the Paperwork Reduction Act of 1995, Public Law 104-13 (44 U.S.C. 3506(c)(2)(A)). The Consumer Financial Protection Bureau implementation team is soliciting comments regarding forms for questions, complaints, and other information about consumer financial products and services.

DATES: Written comments should be received on or before May 9, 2011 to be assured of consideration.

ADDRESSES: Direct all written comments to Andrew Trueblood, Consumer Financial Protection Bureau implementation team, 1801 L Street, NW., Washington, DC 20036.

FOR FURTHER INFORMATION CONTACT: Requests for additional information should be directed to Andrew Trueblood in writing at Consumer Financial Protection Bureau implementation team, 1801 L Street, NW., Washington, DC 20036, by telephone at (202) 435-7070, or by e-mail at andrew.trueblood@treasury.gov.

SUPPLEMENTARY INFORMATION:

Title: Consumer Financial Protection Bureau Consumer Response Intake Fields.

OMB Control Number: NEW.

Abstract: The Dodd-Frank Wall Street Reform and Consumer Protection Act, Public Law 111-203, Title X, established the Consumer Financial Protection Bureau (CFPB). Among the CFPB's functions is to facilitate the centralized collection of, monitoring of, and response to complaints concerning consumer financial products and services. In order to collect data about the consumer financial market and facilitate the appropriate routing of, handling of, and response to complaints, questions, and other information concerning consumer financial products and services, the CFPB is developing online and paper intake methods which will have fields for persons to complete. The fields will help document information such as the type of contact; the substance of the complaint, question, or other information; contact information for the person making the contact and/or related persons; information about any subject incident and institution; and identifying information about the consumer or consumer's household.

Type of Review: NEW.

Affected Public: Individuals and households with questions, complaints, and other information about consumer financial products and services.

Estimated Number of Respondents: Approximately 1-3 million per year. CFPB's intake of complaints, questions, and other information relating to consumer financial products and services is a new collection that may centralize intake now performed by existing agencies. As such, the projections of the number of respondents have a high level of uncertainty.

Estimated Average Time per Respondent: 10 minutes per response. The time to complete the form will depend on the nature of the contact. Simple feedback may take as little as a few minutes to complete while more complicated complaints could take longer to describe.

Estimated Total Annual Burden Hours: Approximately 330,000 burden hours.

Request for Comments: Comments submitted in response to this notice will be summarized and/or included in the request for Office of Management and Budget approval. All comments will become a matter of public record. The public is invited to submit written comments concerning: (a) Whether the intake of complaints, questions, and other information relating to consumer financial products and services is necessary for the proper performance of the functions of the Bureau, including whether the information will have practical uses; (b) the accuracy of the above estimate of the burden of the information collection; (c) ways to enhance the quality, usefulness, and clarity of the information to be collected; (d) ways to minimize the reporting and/or record keeping burdens on respondents, including the use of automated collection techniques or other forms of information technology; (e) estimates of capital or start-up costs of operation, maintenance, and purchase of services to provide information; and (f) specific types of information that would be useful for CFPB to collect through its intake forms, in order to advance the mission of CFPB.

Robert Dahl,
Treasury Departmental Clearance Officer.

[FR Doc. 2011-5349 Filed 3-8-11; 8:45 am]

BILLING CODE 4810-25-P